DEPARTMENT OF TRANSPORTATION

Federal Aviation Administration

14 CFR Part 73

[Airspace Docket No. 99-ANM-15]

RIN 2120-AA66

Establishment and Revision of Restricted Areas, ID

AGENCY: Federal Aviation Administration (FAA), DOT.

ACTION: Final rule; correction.

SUMMARY: This action corrects a final rule published in the Federal Register on July 2, 2001 (66 FR 34808). In that rule, the legal description of Restricted Area 3204A (R-3204A) contained an inadvertent error in a coordinate. This action corrects that error.

EFFECTIVE DATE: October 3, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On July 2, 2001, Airspace Docket No. 99-ANM-15 (66 FR 34808) was published in the Federal Register establishing R-3204A Juniper Buttes, ID. The legal description of R-3204A contained an inadvertent error in a coordinate. This action corrects that error.

Correction to Final Rule

Accordingly, pursuant to the authority delegated to me, the legal description for R-3204A Juniper Buttes, ID, as published in the Federal Register July 2, 2001, (65 FR 34808), and incorporated by reference in 14 CFR 73, is corrected as follows:

§ 73.32 [Corrected]

On page 34809, correct the legal description of R-3204A to read as follows:

* * * * *

R-3204A Juniper Buttes, ID [New]

Boundaries: Beginning at lat. 42°20′00″N., long. 115°22′30″W.; at lat. 42°20′00″N., long. 115°18′00″W.; at lat. 42°19′00″N., long. 115°17′00″W.; at lat. 42°16′35″N., long. 115°17′00″W.; at lat. 42°16′35″N., long. 115°22′30″W.; to point of beginning.

* * * * *

Issued in Washington, DC, on September 27, 2001.
Reginald C. Matthews,
Manager, Airspace and Rules Division.

[FR Doc. 01-24728 Filed 10-2-01; 8:45 am]

BILLING CODE 4910-13-M